DEPARTMENT OF EDUCATION

34 CFR Part 75

[Docket ID ED-2025-OS-0680]

Proposed Priority and Definitions—Secretary's Supplemental Priority and Definitions on Meaningful Learning Opportunities

AGENCY: U.S. Department of Education.

ACTION: Proposed priority and definitions.

SUMMARY: The Secretary proposes one additional priority and related definitions for use in currently authorized discretionary grant programs or programs that may be authorized in the future. The Secretary may choose to use the entire priority for a grant program or a particular competition or use one or more of the priority's component parts. This priority and definitions augment the initial set of three Secretary's Supplemental Priorities on Evidence-Based Literacy, Educational Choice, and Returning Education to the States published as final priorities on September 9, 2025 (90 FR 43514), the Secretary's Supplemental Priority on Artificial Intelligence published as a proposed priority on July 21, 2025 (90 FR 34203), and the Secretary's Supplemental Priority on Promoting Patriotic Education published as a proposed priority on September 17, 2025 (90 FR 44788). In addition, this priority complements the additional Secretary's Supplemental Priority and Definitions on Career Pathways and Workforce Readiness published as a proposed priority elsewhere in this issue of the Federal Register.

DATES: We must receive your comments on or before October 27, 2025.

ADDRESSES: Comments must be submitted via the Federal eRulemaking Portal at Regulations.gov. See the SUPPLEMENTARY INFORMATION section for more details.

FOR FURTHER INFORMATION CONTACT: Zachary Rogers, U.S. Department of Education, 400 Maryland Avenue SW, Room 7W213, Washington, DC 20202-6450. Telephone: (202) 260-1144. Email: SSP@ed.gov.

If you are deaf, hard of hearing, or have a speech disability and wish to access telecommunications relay services, please dial 7-1-1.

SUPPLEMENTARY INFORMATION:

Invitation to Comment: We invite you to submit comments regarding the proposed priority and definitions. Comments must be submitted via the Federal eRulemaking Portal at Regulations.gov. However, if you require an accommodation or cannot otherwise submit your comments via Regulations.gov, please contact the program contact person listed under FOR FURTHER INFORMATION CONTACT. The Department will not accept comments by fax or by email, or comments submitted after the comment period closes. To ensure that the Department does not receive duplicate copies, please submit your comments only once. Additionally, please include the Docket ID at the top of your comments.

Federal eRulemaking Portal: Go to www.Regulations.gov to submit your comments electronically. Information on using Regulations.gov, including instructions for accessing agency documents, submitting comments, and viewing the docket, is available on the site under “FAQ.” Also included on Regulations.gov is a commenter checklist that addresses how to submit effective comments.

In instances where individual submissions appear to be duplicates or near duplicates of comments prepared as part of a writing campaign, the Department may choose to post to Regulations.gov one representative sample comment along with the total comment count for that campaign. The Department will consider these comments along with all other comments received. In instances where individual submissions are bundled together (submitted as a single document or packaged together), the Department will post all of the substantive comments included in the submissions along with the total comment count for that document or package to Regulations.gov. Comments containing personal threats will not be posted to Regulations.gov and may be referred to the appropriate authorities.

During and after the comment period, you may inspect public comments about the proposed priority and definitions by accessing Regulations.gov. To inspect comments in person, please contact the person listed under FOR FURTHER INFORMATION CONTACT.

Privacy Note: The Department's policy is to generally make all comments received from members of the public available for public viewing in their entirety on the Federal eRulemaking Portal at Regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this document. If you want to schedule an appointment for this type of accommodation or auxiliary aid, please contact the person listed under FOR FURTHER INFORMATION CONTACT.

Program Authority: 20 U.S.C. 1221e-3, 3474.

Proposed Priority: This document contains one proposed priority.

Proposed Priority: Supporting Meaningful Learning Opportunities for Students.

Background: Recent disappointing National Assessment of Educational Progress (NAEP) results highlight the need for a renewed focus on academic rigor and achievement.¹ These results demonstrate that education priorities have too often shifted away from what matters most: equipping students with the essential skills and knowledge for success required to be contributing members of a free society. Instead of focusing on improving student outcomes and providing meaningful learning opportunities for students, the Biden Administration wasted billions of dollars in discretionary grant funding on harmful ideological programming when our students needed academic support the most.

¹ National Assessment of Educational Progress (NAEP). https://www.nationsreportcard.gov/.

This Administration seeks to ensure that education programs and initiatives provide all students with access to rigorous, relevant, and engaging learning experiences. This proposed priority emphasizes the importance of designing meaningful learning experiences that promote strong core instruction, personalized and relevant learning opportunities, and support deep understanding of foundational subject areas. This priority is intended to guide the development and implementation of strategies that prepare students for success in an increasingly complex, interconnected and technology-rich world and ensure all students are prepared for employment, enrollment, enlistment, or entrepreneurship.

Proposed Priority: Projects or proposals that are designed to do one or more of the following:

(a) Strengthen core instruction through one or more of the following:

(i) Improving mathematics instruction to promote student achievement through one or more of the following priority areas:

(1) Assisting states in developing comprehensive statewide plans to raise mathematics achievement that align with mathematics instruction based on strong, moderate, or promising evidence (as defined in 34 CFR 77.1);

(2) Selecting, adopting, and/or implementing high-quality instructional materials in mathematics;

(3) Developing and implementing pathways to accelerate conceptual understanding of mathematics or advanced mathematics coursework, including strategies like automatic enrollment that encourage participation in such pathways;

(4) Developing and implementing strategies that provide opportunities for the early identification and support for students struggling with foundational and developmental mathematics concepts;

(5) Developing and implementing strategies for the identification of gifted and talented students, including strategies for students to access higher grade-level and/or advanced placement in mathematics;

(6) Offering high-quality professional development based on strong, moderate, or promising evidence (as defined in 34 CFR 77.1) in mathematics for educators; or

(7) Integrating explicit and systematic teaching strategies for mathematics or programming to build subject matter expertise for mathematics into preservice training for general or special education educators.

(ii) Providing or expanding access to high-quality instructional materials in one or more of the following subjects:

(1) A science, technology, engineering, or mathematics (STEM) discipline, including computer science;

(2) English Language Arts; or

(3) Social Studies.

(iii) Providing or expanding access to training on implementing high-quality instructional materials in one or more of the following subjects:

(1) A STEM discipline, including computer science;

(2) English Language Arts; or

(3) Social Studies.

(iv) Creating competency-based instructional models that provide timely and actionable insights for students, parents, and educators.

(v) Creating strategic staffing models, instructional leadership roles, or developing models for teacher advancement that incentivize high-performing educators with opportunities and leverage their time, resources, and talent in innovative ways to better support student learning and achievement.

(vi) Planning or implementing a new school day schedule to allow more opportunities for meaningful learning.

(b) Expand high-quality interventions or accelerated learning supports for students based on strong, moderate or promising evidence (as defined in 34 CFR 77.1) aimed at improving student outcomes through one or more of the following priority areas:

(i) Providing remedial or accelerated learning opportunities focused on individualized, differentiated, and scaffolded supports for students to access grade-level (or above grade-level) content;

(ii) Identifying and implementing strategies for delivering effective personalized supports to all students;

(iii) Supporting states in defining, implementing, or improving statewide tiered educational frameworks that meet the varied needs of students;

(iv) Implementing, expanding, or scaling high-impact tutoring programs that occur during the regular school day, are aligned with practices based on strong, moderate, or promising evidence (as defined in 34 CFR 77.1) to accelerate student learning in literacy and mathematics, which may include innovative delivery models or approaches, such as outcomes-based contracting, artificial intelligence (AI), technology-enabled platforms, or strategic partnerships and staffing; or

(v) Leveraging outcomes-based contracting or grantmaking to improve student achievement.

(c) Provide career-connected learning through one or more of the following priority areas:

(i) Career and academic advising and mentorship opportunities for all students;

(ii) Integrating career-connected and work-based learning into K-12 education, including approaches to help all students connect core academic instruction with real-world career skills and foster career awareness, exploration, and advising throughout their education journey; or

(iii) Supporting vocational rehabilitation for students with disabilities (pre-employment transition services and transition services); or

(iv) Supporting States in developing, piloting, or scaling statewide plans for career-connected learning.

(d) Advance innovative assessment models through one or more of the following priority areas:

(i) Supporting the development, implementation, and scaling of new or innovative assessment models that accurately and fairly measure all student's learning and progress, including competency- and mastery-based assessments;

(ii) Supporting the development, implementation, and scaling of assessment models that provide timely and useful information to educators, students, and families to address student learning needs;

(iii) Encouraging the use of adaptive technologies for assessments;

(iv) Developing a clear methodology for early identification and subsequent ongoing support of students at-risk, students with disabilities, or gifted and talented students; or

(v) Supporting states to re-envision state assessment systems through research activities, planning, piloting, and/or scaling new or innovative assessment models.

(e) Supporting parents in providing meaningful at-home learning, which could include providing resources, educational materials, and access to learning platforms to support student learning needs.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions:

Background: The Secretary proposes the following definitions for use in any Department discretionary grant program in which the proposed priority is used.

Computer science means the study of computers and algorithmic processes, including their principles, their hardware and software designs, theories, computational thinking, coding, analytics, applications, and AI.

Computer science often includes computer programming or coding as a tool to create software, including applications, games, websites, and tools to manage or manipulate data; or development and management of computer hardware and the other electronics related to sharing, securing, and using digital information. In addition to coding, the expanding field of computer science emphasizes computational thinking and interdisciplinary problem-solving to equip students with the skills and abilities necessary to apply computation to the digital world. Computer science does not involve using computers for everyday tasks, such as browsing the internet or using tools like word processors, spreadsheets, or presentation software. Instead, it focuses on creating and developing technology, not just utilizing it.

High-quality instructional materials (HQIM) means standards-aligned, content-rich instructional tools that provide a coherent scope and sequence for grade-level academic content. HQIM provide a full suite of resources for teachers, students, and families—including lesson plans, instructional units, and embedded formative assessments. HQIM utilize evidence-based instructional strategies and provide implementation supports for educators to ensure the learning needs of all students are met.

Strategic Staffing means a team-based approach to school staffing that replaces the traditional one-teacher, one-classroom model. In this model, at least two professional educators share responsibility for a common roster of students during the same blocks of time in the school day. Teamed educators have differentiated roles and distributed expertise, allowing for flexible student grouping, more effective use of instructional time, and expanded career entry and advancement opportunities.

Final Priority and Definitions: The Department will announce the final priority and definitions in a document in the Federal Register. We will determine the final priority and definitions after considering responses to the proposed priority and definitions and other information available to the Department. This document does not preclude us from proposing additional priorities, requirements, or definitions, subject to meeting applicable rulemaking requirements.

Note: This document does not solicit applications. In any year in which we choose to use any of the final priority and definitions, we invite applications through a notice in the Federal Register.

Executive Orders 12866, 13563, and 14192

Regulatory Impact Analysis

This proposed regulatory action is not a significant regulatory action subject to review by the Office of Management and Budget under section 3(f) of Executive Order 12866. Since this regulatory action is not a significant regulatory action under section 3(f) of Executive Order 12866, it is not considered an “Executive Order 14192 regulatory action.”

We have also reviewed this proposed regulatory action under Executive Order 13563. We are issuing the proposed priority and definitions only on a reasoned determination that their benefits would justify their minimal costs. The Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined are necessary for administering the Department's programs and activities.

Discussion of Costs and Benefits: The proposed priority would impose no or minimal costs on entities that receive discretionary grant award funds from the Department. Additionally, the benefits of implementing the proposed priority outweigh any associated costs, to the extent these de minimis costs even exist, because the proposed priority would result in higher quality grant application submissions.

Application submission and participation in competitive grant programs that might use this proposed priority and definitions is voluntary. We believe, based on the Department's administrative experience, that entities preparing an application would not need to expend more resources than they otherwise would have in the absence of this proposed priority. Therefore, any potential costs to applicants would be de minimis. Because the costs of carrying out activities would be paid for with program funds, the costs of implementation would not be a burden for any eligible applicants that earn a grant award, including small entities. We invite the public to comment on this discussion of estimated costs and benefits. We are specifically interested in high quality comments supported with quantitative data.

Intergovernmental Review: This action is subject to Executive Order 12372 and the regulations in 34 CFR part 79.

This document provides early notification of our specific plans and actions for this program.

Regulatory Flexibility Act Certification:

This section considers the effects that the final regulations may have on small entities in the educational sector as required by the Regulatory Flexibility Act, 5 U.S.C. 601 et seq. The Secretary certifies that this proposed regulatory action would not have a substantial economic impact on a substantial number of small entities.

The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act

The proposed priority and definitions do not contain information collection requirements or affect any currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. You may also access documents of the Department published in the Federal Register by using the article search feature at www.federalregister.gov.

Linda McMahon,
Secretary of Education.

[FR Doc. 2025-18640 Filed 9-24-25; 8:45 am]

BILLING CODE 4000-01-P